SMALL BUSINESS ADMINISTRATION

[License No. 06/76-0330]

SunTx Fulcrum Fund II—SBIC, L.P.; Notice Seeking Exemption Under Section 312 of the Small Business Investment Act, Conflicts of Interest

Notice is hereby given that SunTx Fulcrum Fund II—SBIC, L.P., Two Lincoln Centre, 5420 LBJ Freeway, Suite 1000, Dallas, Texas 75240, a Federal Licensee under the Small Business Investment Act of 1958, as amended (“the Act”), in connection with the financing of a small concern, has sought SBA's prior written approval under section 312 of the Act and section 107.730(d), Financings with Associates, of the Small Business Administration (“SBA”) rules and regulations (13 CFR 107.730 (2002)). SunTx Fulcrum Fund II—SBIC, L.P. proposes to invest in NationsBuilders Insurance Services, Inc. (“NBIS”). The financing will provide the funding for the information system improvement and growth of the business.

The financing is brought within the purview of Section 107.730(d) of the Regulations because SunTx Fulcrum Fund, L.P. and SunTx Fulcrum Dutch Investors, L.P., Associates of SunTx Fulcrum Fund II—SBIC, L.P., own more than 5% of outstanding ownership of NBIS. Therefore, this transaction is considered as a financing with Associates requiring SBA's prior approval.

Notice is hereby given that any interested person may submit written comments on the transaction, within 15 days of the date of this publication, to the Associate Administrator for Investment, U.S. Small Business Administration, 409 Third Street, SW., Washington, DC 20416.

Dated: July 9, 2008.
A. Joseph Shepard,
Associate Administrator For Investment.

[FR Doc. E8-18522 Filed 8-12-08; 8:45 am]

BILLING CODE 8025-01-P